INTERNATIONAL TRADE COMMISSION

[Investigation No. 337-TA-1010]

Certain Semiconductor Devices, Semiconductor Device Packages, and Products Containing Same; Institution of Investigation

AGENCY: U.S. International Trade Commission.

ACTION: Notice.

SUMMARY: Notice is hereby given that a complaint was filed with the U.S. International Trade Commission on May 23, 2016, under section 337 of the Tariff Act of 1930, as amended, 19 U.S.C. 1337, on behalf of Tessera Technologies, Inc. of San Jose, California; Tessera, Inc. of San Jose, California; and Invensas Corporation of San Jose, California. The complaint alleges violations of section 337 based upon the importation into the United States, the sale for importation, and the sale within the United States after importation of certain semiconductor devices, semiconductor device packages, and products containing same by reason of infringement of certain claims of U.S. Patent No. 6,856,007 (“the '007 patent”); U.S. Patent No. 6,849,946 (“the '946 patent”); and U.S. Patent No. 6,133,136 (“the '136 patent”). The complaint further alleges that an industry in the United States exists as required by subsection (a)(2) of section 337.

The complainants request that the Commission institute an investigation and, after the investigation, issue a limited exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of the Secretary, Docket Services Division, U.S. International Trade Commission, telephone (202) 205-1802.

Authority: The authority for institution of this investigation is contained in section 337 of the Tariff Act of 1930, as amended, and in section 210.10 of the Commission's Rules of Practice and Procedure, 19 CFR 210.10 (2015).

Scope of Investigation: Having considered the complaint, the U.S. International Trade Commission, on June 20, 2016, ordered that —

(1) Pursuant to subsection (b) of section 337 of the Tariff Act of 1930, as amended, an investigation be instituted to determine whether there is a violation of subsection (a)(1)(B) of section 337 in the importation into the United States, the sale for importation, or the sale within the United States after importation of certain semiconductor devices, semiconductor device packages, and products containing same by reason of infringement of one or more of claims 13, 16, and 18 of the '007 patent; claims 16-20 and 22 of the '946 patent; and claims 1-3, 5, 6, 11-16, 24-27, 29, 30 and 33-35 of the '136 patent, and whether an industry in the United States exists as required by subsection (a)(2) of section 337;

(2) For the purpose of the investigation so instituted, the following are hereby named as parties upon which this notice of investigation shall be served:

(a) The complainants are:

Tessera Technologies, Inc., 3025 Orchard Parkway, San Jose, CA 95134

Tessera, Inc., 3025 Orchard Parkway, San Jose, CA 95134

Invensas Corporation, 3025 Orchard Parkway, San Jose, CA 95134

(b) The respondents are the following entities alleged to be in violation of section 337, and are the parties upon which the complaint is to be served:

Broadcom Limited, 1 Yishun Avenue 7, Singapore 768923

Broadcom Corporation, 5300 California Ave., Irvine, CA 92617

Avago Technologies Limited, 1 Yishun Avenue 7, Singapore 768923

Avago Technologies U.S. Inc., 1320 Ridder Park Drive, San Jose, CA 95131

Arista Networks, Inc., 5453 Great America Parkway, Santa Clara, CA 95054

ARRIS International plc, 3871 Lakefield Drive, Suwanee, GA 30024

ARRIS Group, Inc., 3871 Lakefield Drive, Suwanee, GA 30024

ARRIS Technology, Inc., 101 Tournament Drive, Horsham, PA 19044

ARRIS Enterprises LLC, 3871 Lakefield Drive, Suwanee, GA 30024

ARRIS Solutions, Inc., 3871 Lakefield Drive, Suwanee, GA 30024

Pace Ltd., Victoria Road, Saltaire, West Yorkshire BD18 3LF, England

Pace Americas, LLC, 3701 FAU Boulevard, Suite 200, Boca Raton, FL 33431

Pace USA, LLC, 3701 FAU Boulevard, Suite 200, Boca Raton, FL 33431

ASUSTeK Computer Inc., No. 15, Li-Te Road, Peitou, Taipei, Taiwan

ASUS Computer International, 800 Corporate Way, Fremont, CA 94539

Comcast Cable Communications, LLC, 1500 Market Street, Philadelphia, PA 19102

Comcast Cable Communications Management, LLC, 1701 John F Kennedy Blvd., Philadelphia, PA, 19103

Comcast Business Communications, LLC, 1701 John F Kennedy Blvd., Philadelphia, PA, 19103

HTC Corporation, 23 Xinghau Road, Taoyuan, 330, Taiwan

HTC America, Inc., 13920 SE Eastgate Way, Suite 200, Bellevue, WA 98005

NETGEAR, Inc., 350 East Plumeria Drive, San Jose, CA 95134

Technicolor S.A., 1-5, rue Jeanne d'Arc, 92130 Issy-Les-Moulineaux, France

Technicolor USA, Inc., 101 West 103rd Street, Indianapolis, IN 46290

Technicolor Connected Home USA LLC, 101 West 103rd Street, Indianapolis, IN 46290

(3) For the investigation so instituted, the Chief Administrative Law Judge, U.S. International Trade Commission, shall designate the presiding Administrative Law Judge.

The Office of Unfair Import Investigations will not be a party to this investigation.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 20, 2016.
Lisa R. Barton,
Secretary to the Commission.

[FR Doc. 2016-14948 Filed 6-23-16; 8:45 am]

BILLING CODE 7020-02-P